DEPARTMENT OF TRANSPORTATION

Federal Aviation Administration

14 CFR Parts 65, 91, 105, 119

[Docket No. FAA-1999-5483; Amendment No. 65-42, 91-268, 105-12 and 119-4]

RIN 2120-AG52

Parachute Operations

AGENCY: Federal Aviation Administration (FAA), DOT.

ACTION: Final rule.

SUMMARY: This rule amends regulations that govern parachute operations. Amendments to these regulations reflect changes in the requirements applicable to radio communications, airspace classification, parachute packing, tandem parachute operations, and foreign parachutists. Through this rule, the FAA intends to enhance the safety of parachute operation in the National Airspace System (NAS).

EFFECTIVE DATE: July 9, 2001.

FOR FURTHER INFORMATION CONTACT: Ellen Crum, Airspace and Rules Division, ATA-400, Air Traffic Airspace Management Program, Federal Aviation Administration, 800 Independence Avenue, SW., Washington, DC 20591, telephone (202) 267-8783; or Randy Montgomery, Flight Standards Service Division, AFS-340, General Aviation and Commercial Branch, Federal Aviation Administration, 800 Independence Avenue, SW., Washington, DC 20591, telephone (202) 267-3155.

SUPPLEMENTARY INFORMATION:

Availability of Final Rules

You can get an electronic copy using the Internet by taking the following steps:

(1) Go to the search function of the Department of Transportation's electronic Docket Management System (DMS) Web Page (http://dms.dot.gov/search).

(2) On the search page type in the last four digits of the Docket number shown at the beginning of this final rule. Click on “search.”

(3) On the next page, which contains the Docket summary information for the Docket you selected, click on the final rule.

You can also get an electronic copy using the Internet through FAA's web page at http://www.faa.gov/avr/armhome.htm or the Federal Register's web page at http://www.access.gpo.gov/su_docs/aces/aces140.html.

You can also get a copy by submitting a request to the Federal Aviation Administration, Office of Rulemaking, ARM-1, 800 Independence Avenue, SW., Washington, DC 20591, or by calling (202) 267-9680. Make sure to identify the amendment number or docket number of this final rule.

Small Business Regulatory Enforcement Fairness Act

The Small Business Regulatory Enforcement Fairness Act (SBREFA) of 1996, requires the FAA to comply with small entity requests for information or advice about compliance with statutes and regulations within its jurisdiction. Therefore, any small entity that has a question regarding this document may contact their local FAA official, or the person listed under FOR FURTHER INFORMATION CONTACT. You can find out more about SBREFA on the Internet at our site, http://www.gov/avr/arm/sbrefa.htm. For more information on SBREFA, e-mail us 9-AWA-SBREFA@faa.gov.

Background

In 1991, the FAA initiated a review of part 105, which was originally published in 1962 to determine if the regulation continued to reflect current practices and equipment used in the industry. Among other information, the FAA studied reports received from the Aviation Safety Reporting System (ASRS), the National Transportation Safety Board (NTSB), Air Traffic Unsatisfactory Condition Reports (UCR), and recommendations from the Air Traffic Procedures Advisory Committee and the National Air Traffic Controllers Association (NATCA). Upon completion of the review, the FAA determined that the regulation required revision to be consistent with the parachute equipment used today and current industry practices.

An example of changes that have taken place in the parachute industry since the time part 105 was published is the development of dual-harness, dual parachute systems designed to carry more than one person at a time. In 1983 the FAA began receiving petitions for rulemaking and exemption, requesting changes to the rule allowing use of this equipment. During the 1990's, the FAA received petitions for rulemaking to allow foreign parachutists to jump in the United States without an exemption. Additionally, petitioners requested removal of the requirement for static line assist devices when ram air parachutes were used.

The following is a detailed discussion of these petitions and the FAA's rationale for making the regulatory changes in this final rule.

Petitions for Exemption and Rulemaking

Tandem Parachute Operations

When part 105 was published in 1962, civilian parachute operations were limited to the use of a single-harness, dual-parachute pack. Since then, the parachute industry has developed dual harness systems that support two people under a single parachute. Because part 105 currently allows parachute operations with single-harness parachutes only, the use of parachute equipment capable of supporting two people has only been authorized by exemption. For purposes of the exemptions, the FAA and the parachuting industry have adopted the term “tandem” to describe those parachute operations that use a dual-harness, dual-parachute system.

The first exemption authorizing tandem parachute operations in the United States was granted to Strong Enterprises and Relative Workshop by the FAA in 1984. Since then more than 2.5 million experimental tandem parachute jumps have been conducted under exemption authority in the United States and abroad. Under the exemptions, various companies conducting tandem parachute operations were required to furnish the FAA with accident statistics on tandem operations, which provided the FAA with the means to evaluate the safety of tandem equipment compared to the safety of equipment and operations currently permitted under part 105.

In July 1997, the United States Parachute Association (USPA) submitted a petition for rulemaking requesting that the FAA permit tandem parachute operations. While considering the USPA petition, the FAA reviewed accident statistics from 1991 through 1996. Based on the information collected during the review, the FAA has determined that experimental tandem parachute operations conducted under an exemption from part 105 have demonstrated that tandem operations can be conducted safely.

Many of the new regulations applicable to tandem parachute operations are based on terms and conditions previously contained in exemptions. Although an exemption will no longer be required to conduct a tandem parachute operation, the FAA has written the regulations to include terms similar to those previously contained in the exemptions. The FAA believes that the continued use of the practices and procedures proven to be safe under exemption will ensure continued safety in these operations. The specific terms and conditions adopted will be discussed under the comment section.

Static-Line Assist Devices

The USPA submitted a petition in July 1997 requesting that the FAA omit the requirement for using a static-line when using direct-deployed, ram-air parachutes. As a basis for its request, the USPA cited a series of tests it performed to determine if assist devices improved the reliability of the static line direct deployment of a ram-air canopy. The tests showed that an assist device does not improve the deployment reliability when used with a static line. Moreover, there was no evidence of adverse effects when the device is removed. As a result of these tests, the FAA has concluded that safety would not be compromised by removing the static-line assist device requirements for ram-air parachutes.

Equipment and Packing Requirements for Foreign Parachutists

The USPA submitted a third petition for rulemaking in July 1997 requesting that the FAA allow foreign parachutists to make parachute jumps in the United States using their own equipment.

The current regulations require that parachute equipment used in operations conducted within the United States meet the standards set forth under part 105. The practical impact of this requirement is that foreign parachutists could not use their own equipment, usually manufactured in another country, when participating in parachute operations in the United States. The FAA has issued exemptions to organizations sponsoring parachuting events attended by foreign parachutists. This long time practice has demonstrated that operations conducted under these exemptions have been conducted safely. Additionally, the FAA recognizes that foreign manufacturers of parachute equipment often meet U.S. standards.

Notice of Proposed Rulemaking

Based on the review, petitions received, and the collection of data regarding parachute operations, the FAA published a notice of proposed rulemaking (NPRM) (64 FR 18302), on April 13, 1999. The FAA proposed numerous changes, including: (1) Changes in response to the airspace reclassification rule, (2) changes to air traffic control communication requirements, (3) changes to reflect improved parachute design, and (4) changes in industry practices. The notice provided for a 90-day comment period that closed on July 12, 1999.

In response to the NPRM, the FAA received 71 comments. Among the comments received were several comments that are outside the scope of the rule; therefore, those comments will not be addressed in this rulemaking. While the majority of comments submitted to the public docket were from parachutists, comments were also received from drop zone operators; pilots; the Illinois Department of Transportation; the U.S. Department of the Army; the United States Parachute Association (USPA); the U.S. Department of Agriculture, Forest Service; Southwest Airlines Pilots' Association the Aircraft Owners and Pilots Association (AOPA); and the Air Line Pilots Association (ALPA).

The following is a discussion of the substantive comments received in response to the NPRM. Sections that received no comments are not included in this discussion, and are incorporated in the final rule as proposed in the Notice.

Discussion of the Comments

Section 65.111 Certificate Required

Proposal: The FAA proposed to revise paragraph (b) of current § 65.111, Certificate required, which in part, requires that anyone who packs, maintains, or alters a main parachute of a dual parachute pack to have an appropriate current certificate issued under subpart F of part 65. This paragraph also allows non-certificated persons to pack a main parachute of a dual parachute pack that is to be used by that person for intentional jumping.

In the NPRM, the FAA proposed to allow persons to pack a main parachute under the supervision of a certificated parachute rigger or to allow a parachutist in command to pack a main parachute for tandem parachute operations. The FAA also proposed to add the word “next” to the provision that a person may pack a main parachute if that person intends to make the “next” parachute jump using that parachute.

Comments: One commenter supports the proposed rule language. Several commenters, including Skydive Delmarva, Inc. do not agree with proposed § 65.111. Skydive Delmarva, Inc. suggests adding a new paragraph which would allow persons authorized in writing by a certificated rigger to pack main parachutes without supervision. Further, Skydive Delmarva, Inc. requests that the FAA authorize organizations, other than the FAA, to issue parachute rigger certificates.

FAA response: Skydive Delmarva Inc.'s comment to allow a non-certificated person to receive permission in writing from a certificated rigger to pack a main parachute was not addressed in the NPRM. As a consequence, the comment goes beyond the scope of this rulemaking. This comment will not, therefore, be addressed in the final rule.

The FAA disagrees, for safety reasons, with Skydive Delmarva's request to allow persons authorized in writing by a certificated rigger to pack main parachutes without supervision. Further, in response to Skydive Delmarva's request to authorize organizations, other than the FAA, to issue parachute rigger certificates, the FAA recognizes and currently allows designated parachute rigger examiners (DPRE's), who are not FAA employees, to issue parachute rigger certificates. Therefore, § 65.111 is adopted in the final rule as proposed.

Section 105.3 Definitions

The FAA proposed to define the terms “approved parachute,” “automatic activation device,” “drop zone,” “fatal injury,” “foreign parachutist,” “freefall,” “main parachute,” “object,” “parachute drop,” “parachute jump,” “parachute operation,” “parachutist,” “parachutist in command,” “passenger parachutist,” “pilot chute,” “ram-air parachute,” “reserve parachute,” “serious injury,” “single-harness, dual-parachute system,” “supervision,” “tandem parachute operation,” and “tandem parachute system.”

The following is a list of proposed definitions, on which the FAA received comments, and the FAA response to those comments. Definitions that were included in the proposal, but not commented on are included in the final rule as proposed. However, definitions for “foreign parachutist,” “parachute drop,” “parachute operation,” and “parachutist,” have been changed for further clarification. The definitions for “fatal injury” and “serious injury” are deleted from the final rule.

Automatic Activation Device (AAD)

Proposal: The FAA proposed to define an “automatic activation device” as a self-contained mechanical device attached to a parachute, other than a static line, which automatically initiates parachute deployment at a preset altitude, time, percentage of terminal velocity, or combination thereof if that parachute has not been manually activated.

Comments: Several commenters object to the proposed definition for the AAD. One of these commenters states that the definition should be deleted because AAD's “are not approved, reviewed, or certificated,” therefore, they should not be addressed in this rulemaking. Another commenter states that “AAD” should be defined as “a self-contained mechanical or electro-mechanical device,” because this definition accurately describes the type of equipment currently used in the parachute industry.

FAA response: The FAA disagrees that the definition for AAD should be deleted, but it agrees that the term “electro-mechanical device” should be added to the definition.

The FAA concluded that a definition for AAD should be included in this final rule because parachutists frequently use this equipment today. The fact that parachutists voluntarily rely on the AAD for their safety is a testimony to its value. The FAA's required use of an AAD on tandem parachute system reserve parachutes further attests to the added protection afforded by the use of this device.

The FAA agrees with the commenter who recommended that the term “electro-mechanical device” should be added to the definition of AAD. Upon receipt of this comment, the FAA reviewed the design and construction of AAD's. Three types of AADs exist; the first type is purely mechanical, or battery activated; the second type is a microprocessor, which has a mini computer; the third type of AAD, which is most frequently used today, combines the battery and computer processor to create an electro-mechanical AAD. Given that this AAD is the most frequently used, adding the phrase “electro-mechanical” to the definition provides the most accurate description of AAD's used today. Therefore, the FAA has added this phrase to the definition.

The FAA also amends the proposed definition for the term “AAD” in two other respects. First, the definition states that the AAD is attached to the interior of the reserve parachute container, instead of the parachute itself. Second, the definition is corrected to state that the AAD initiates deployment of the reserve parachute, which is a more accurate description of the AAD's operation that what was originally proposed.

Direct Supervision

Proposal: The FAA proposed to define the term “supervision” as the act of a certificated rigger personally observing the packing of a parachute by a noncertificated person to the extent necessary to ensure that it is being done properly.

Comments: Several commenters recommend revising the proposed definition of the term “supervision” to include that the certificated rigger is readily available in person for consultation. One commenter recommends that the definition be amended to state that a certificated rigger also “. . . takes responsibility for that packing.”

FAA response: The FAA agrees with the comment that a certificated rigger needs to be available during the packing process. The FAA has adopted a revised definition in the final rule to address this concern by changing “supervision” to “direct supervision.” Although the term “direct supervision” was not used in the NPRM, the FAA believes that adding the word “direct” clarifies the FAA's intent that a certificated rigger must be on the premises during the parachute packing process. The certificated rigger's presence ensures that he/she is readily available in person for consultation.

In addition, the FAA agrees with the commenters that direct supervision includes taking responsibility for the packing. Therefore, the phrase “and takes responsibility for that packing” has been added to the term “direct supervision” in the final rule.

Fatal Injury

Proposal: The FAA proposed to define the term “fatal injury” as any parachuting injury that results in death within 30 days from the date of injury.

FAA Response: Many comments were received on this proposed term because it is in conjunction with the proposed addition of § 105.27, Accident reporting requirements. Since the FAA has eliminated proposed § 105.27 in the final rule, this definition has been deleted.

Foreign Parachutist

Proposal: The FAA proposed to define this term as a parachutist who is neither a U.S. citizen nor a resident alien.

FAA Response: While no comments were received on this definition, the FAA has amended the proposed definition to clarify that a foreign parachutist is a parachutist who is neither a U.S. citizen nor a resident alien and is participating in parachute operations within the United States using parachute equipment not manufactured in the United States.

Parachute Drop

Proposal: The FAA proposed to define this term as a parachute operation that involves the descent of an object to the surface from an aircraft in flight when a parachute is used or intended to be used during all or part of that descent.

FAA Response: While no comments were received on this definition, the FAA amended the proposed definition to clarify that a parachute drop means the descent of an object from an aircraft in flight when a parachute is used or intended to be used during all or part of that descent.

Parachute Operation

Proposal: The FAA proposed to define this term as any activity that includes a parachute jump or a parachute drop. This activity involves, but is not limited to the following persons: Parachutist, tandem parachute operation, drop zone owner or operator, certificated parachute rigger, pilot, or appropriate FAA personnel.

FAA Response: While no comments were received on the proposed definition for parachute operation, the FAA determined that it should be further clarified. Therefore, the FAA has amended the proposed definition to define a parachute operation as any activity associated with, or performed in support of a parachute jump or a parachute drop. A parachute operation can involve, but is not limited to, the following persons: Parachutist, a parachutist in command and passenger in tandem parachute operations, jump master, certificated parachute rigger, or pilot.

Parachutist

Proposal: The FAA proposed to define this term as a person who boards an aircraft with the intent to exit the aircraft while in flight using a single-harness, dual parachute system to descend to the surface.

FAA Response: While no comments were received on this definition, the FAA has amended the proposed definition to clarify that a parachutist is a person who intends to exit an aircraft while in flight using a single-harness, dual parachute system to descend to the surface.

Parachutist in Command

Proposal: The FAA proposed to add the term “parachutist in command” to address the instructor of a tandem parachute operation, which the FAA defined as the person responsible for the operation and safety of a tandem parachute operation before, during, and after a tandem parachute operation.

Comments: Several commenters state that the term “parachutist in command” should be changed to “tandem instructor,” which would more accurately reflect that person's function as a teacher, not simply the person in charge of the tandem parachute operation.

The USPA contents that the parachutist in the forward harness is more than a passenger because he or she could sabotage the safety of the operation by failing to follow proper procedures between exit and touch down.

FAA response: The FAA has given the commenters' recommendations serious consideration but cannot agree that “tandem instructor” would accurately reflect the role and responsibility that this person holds. Although it is true that the parachutist in command provides instruction, the amount of time spent instructing is greatly outweighed by the responsibilities held by the person in this role. The bulk of the parachutist-in-command's duties are centered on the safety of the tandem parachute operation. Safety, in this case, only begins with the passenger's instruction in proper procedures. In fact, the parachutist-in-command controls the safety of the operation from the moment the pair exit the aircraft to the time that touch down is safety accomplished.

The FAA has also given further consideration to the USPA's concern that the passenger can sabotage the tandem parachute operation. The FAA agrees with the USPA regarding the potential for a passenger to inadvertently act in a manner that would sabotage the safety of the operation, but such an event is highly unlikely. However, if such event occurred, the parachutist-in-command would be required to bring the operation back under control. The FAA believes that the term “parachutist-in-command” provides the broadest range of applicability and most accurately describes the responsibilities of the person who occupies the rear harness in a tandem parachute operation. Therefore, the term “parachutist-in-command” is adopted in the final rule.

Passenger Parachutist

Proposal: The FAA proposed to add the term “passenger parachutist” and define it as a person who boards an aircraft, acting as other than the parachutist in command of a tandem parachute operation, with the intent of exiting the aircraft while in flight using the forward harness of a dual harness tandem parachute system.

Comments: Several commenters suggest changing this term to “student tandem parachutist.” One commenter suggests changing the term to “tandem student.” Another commenter suggests that the term should be changed because the term “passenger” is used when referring to aircraft operations and is not appropriate when referring to tandem parachute operations since the person is a “student,” not a “passenger.”

FAA response: The FAA believes that the term “passenger parachutist” best describes the role of the person occupying the forward harness of a tandem parachute system. The term “passenger parachutist” is more inclusive than the terms “student tandem parachutist” or “tandem student.” Therefore, this term broadens the classification of persons participating in tandem parachute operations. In addition, this term clarifies that the parachutist-in-command would be solely responsible for regaining control of the parachute and the safety of the parachute operation, in the event of an emergency. It is highly unlikely that the parachutist in the forward would have the knowledge and experience to handle an emergency situation properly. For these reasons, the term “passenger parachutist” is most appropriate to describe the parachutist using the forward harness of a tandem parachute.

Serious Injury

Proposal: The FAA proposed to define the term “serious injury” as any injury that requires hospitalization for more than 48 hours, commencing within 7 days from the date the injury was received; results in a fracture of any bone (except simple fractures of fingers, toes, or the nose); causes severe hemorrhages, or nerve, muscle, or tendon damage; or involves any internal organ.

FAA response: Many comments were received in response to this proposed term because of its relation to the proposed addition of § 105.27, Accident reporting requirements. Since the FAA has eliminated proposed § 105.27 in the final rule, this definition has been deleted.

Tandem Parachute Operation

Proposal: The FAA proposed to define the term “tandem parachute operation” as a parachute operation in which more than one person simultaneously uses the same tandem parachute system while descending from an aircraft in flight.

Comments: Several commenters suggest that this term be change to “tandem parachute jump,” or that “tandem parachute jump” be used in addition to “tandem parachute operation” to more accurately describe the action taking place, and to be consistent with current terminology.

FAA response: The FAA does not agree with these commenters. The proposed definition is intended to include more than just the actual jump, it also includes all aspects of the jump, from the time the jump aircraft departs until the last parachutist(s) descend to the surface. Therefore, the FAA adopts the definition as proposed.

Section 105. General

Proposal: In the NPRM, the FAA proposed to make the following editorial changes to current § 105.13: (1) Replace the word “make” with the phrase “to conduct,” (2) replace the term “parachute jump” with the term “parachute operation,” (3) replace the word “made” with the word “conducted,” and (4) replace the word “jump” with the word “operation.”

Comments: Several comments were received on this proposal from the USPA, AOPA and others, requesting that the FAA incorporate language into the proposed § 105.5, which would hold the parachutists, not pilots, responsible for creating hazards to air traffic. These comments state that pilots of jump aircraft should be relieved from full responsibility for a parachutist exiting their aircraft. The comments' justification for their position is that parachutes used in these types of operations can be steered, therefore, the parachutist can maneuver out of the designated drop zone, possibly creating a hazard to air traffic.

FAA response: The proposed changes to this section were editorial in nature, not substantive. Comments that concern the responsibility of the pilot-in-command are beyond the scope of this rulemaking and therefore, are not addressed. This section is adopted as proposed.

Subpart B—Operating Rules

Section 105.13 Radio Equipment and Use Requirements

Proposal: Currently, part 105 requires that the pilot of an aircraft used for conducting parachute operations establish radio communications with the nearest FAA air traffic control facility or FAA Flight Service Station at least 5 minutes before the jumping activity is to begin.

The FAA proposed to amend this section to require that the jump aircraft establish radio communications with the air traffic control facility having jurisdiction over the affected airspace. A pilot of a jump aircraft will no longer be required to establish radio communications with Flight Service Stations for the purpose of receiving traffic information.

The FAA also proposed amending this section to require pilots to notify ATC when the last parachutist or object leaves the aircraft. The current rule requires the pilot of the jump aircraft to notify ATC when the last parachutist reaches the ground.

In addition, the notice proposed to amend the lost communication procedures applicable to parachute operations. Currently, if communications systems become inoperative in flight after receipt of a required ATC authorization, the jumping activity from that flight may be continued. The notice proposed that if the required radio communications system is or becomes inoperative during any parachute operation in or into controlled airspace, the parachute operation msut be aborted.

Comments: Several commenters, including USPA, AOPA, and the Southwest Airlines Pilot's Association recommended changes to this section. The USPA suggests adding the phrase, “airspace of intended exit altitude(s)” to paragraph (a)(1)(ii). The USPA requests this change because parachute operations can pass through the airspace of several ATC facilities and sectors, depending on the altitude of the aircraft. According to the USPA, the proposal did not clarify which ATC facility would be the appropriate facility to contact. The change requested by the USPA would clarify that the appropriate facility to contact would be the one that has jurisdiction over the airspace and the altitude where the aircraft is located when the parachutist exists the aircraft.

Another commenter believes that the requirement to contact the ATC facility having jurisdiction over the airspace could be interpreted to require the pilot to maintain communications with two or more facilities during the jump operation. The commenter contends that if communications must be maintained with more than one ATC facility, a second radio would be required, imposing a financial burden of at least $1200 to $1500. This commenter believes that the current requirement is sufficient and should not be changed.

The USPA objects to the FAA proposal to require the parachutists on the flight to share responsibility to establish radio communications and to receive information about air traffic activity. The commenter recommends that the pilot in command have sole responsibility for radio communications.

Several commenters object to the proposed removal of the requirement to contact FAA Flight Service Stations (FSS). These commenters are concerned that Notices to Airman (NOTAM) regarding parachute operations, normally submitted to FSS's, will not be received or disseminated. The commenters believe that this creates a safety problem for non-radio equipped aircraft operating in airspace where parachute operations are being conducted.

Several commenters object to the proposal that requires that parachute operations must be aborted if radio communications equipment becomes inoperative. Currently, parachute operations may continue if the radio failure occurs after receipt of the ATC authorization. The USPA contends that the parachute operation should continue after receipt of an ATC authorization, regardless of the operational status of the radio communications system. According to the USPA, safety would not be compromised because the ATC has identified the aircraft on radio and has been advised of the jump operation.

FAA response: The FAA agrees with some of the comments received in response to the proposed changes.

The FAA agrees with the USPA's comment to include the phrase “airspace of the first intended exit altitude” in § 105.13(a)(1)(ii). Since parachute operations can require the use of more than one altitude, the FAA agrees with USPA's comment. The FAA believes that further clarification is necessary by adding that radio communications should be established over the affected airspace of “the first” intended exit altitude. Therefore, this clarifying language has been added to the phrase proposed by the USPA and is incorporated in the final rule. The adoption of this phrase clarifies which ATC facility to contact when parachute operations are being conducted.

The FAA also agrees that the rule as proposed could be interpreted to mean that the aircraft must have more than one radio to meet the communications requirement. The FAA's intent was not to require the pilot to contact more than one ATC facility, nor is it the intent of the FAA to increase the pilot's workload during a jump activity. It is common practice for ATC facilities to coordinate information regarding parachute jump operations. Pilots, therefore, typically are not required to contact more than one facility. By inserting the phrase, “airspace of first intended exit altitude,” in the rule language, the FAA believes that this confusion will be eliminated.

The FAA concurs with the USPA that the pilot in command should be solely responsible for establishing and maintaining radio communications and information about air traffic activity. The proposal was intended to ensure that known air traffic information is communicated to both the pilot and the parachutist. However, the configuration of most aircraft avionics, make it impractical for both pilot and parachutist to share the responsibility for establishing radio communications. Traffic information can be relayed within the aircraft from the pilot to the parachutists. Therefore, the FAA has deleted the requirement, that the parachutists also be responsible for establishing radio communications, from the final rule.

The FAA believes that commenters concerned about the FAA's failure to disseminate NOTAMs on parachute operations misunderstand the communications requirements. The current rule requires that pilots conducting parachute operations contact FSS's to receive information about know air traffic in the vicinity. This is solely a communication requirement; it does not address filing or disseminating NOTAM's. In addition, § 91.103 requires all pilots to become familiar with all available information concerning the flight that includes NOTAM's. Since pilots who operate non-radio equipped aircraft are required to check NOTAM's prior to a flight, this change will not impact safety. This rule does not change the current industry practice that pilots contact FSS's to file NOTAM information.

The FAA does not agree with the USPA recommendation to retain the current rule language that permits jump activities to continue if the aircraft loss its radio communications capability. The purpose of this proposal is to increase the safety of all aircraft in the vicinity of the parachute operation by ensuring that two-way radio communications have been established and maintained between the jump aircraft and the ATC facility that has jurisdction over the airspace. If, prior to receipt of an ATC authorization or during the parachute operation, the radio communications system becomes inoperative, traffic information or the status of the parachute operation cannot be exchanged, therefore, the parachute operation must be aborted. The proposed language is adopted in the final rule.

Section 105.15 Information Required and Notice of Cancellation or Postponement of a Parachute Operation

Proposal: The current rule lists information that must be submitted to the FAA when an individual or an organization requests an authorization for a parachute jump. This information includes the radio frequencies, if any, available in the aircraft. The FAA proposed that when required to submit information regarding parachute operations, the radio frequencies appropriate to the facilities used during the parachute operation would be specified, rather than the radio frequencies avialable in the aircraft.

Comments: Several commenters, including USPA recommend that the requirement to submit the radio frequencies appropriate to the ATC facility be replaced with the name of the ATC facility that has jurisdiction over the airspace where the jump will take place. The USPA contends that the pilot or fjum proponent may not know the radio frequencies that are used by ATC for the jump operation until coordination is completed with the proper ATC facility.

One commenter disagrees with the proposed requirement that a request for authorization should include the registration number for the jump aircraft. The commenter adds that this requirement is acceptable when filing a NOTAM. However, when a request is submitted to conduct a demonstration several days in advance of the jump operation, the person(s) participating in the demonstration may not know which aircraft is going to be used.

FAA response: The FAA agrees with the USPA's recommendation that the proponent of the parachute operation must submit the name of the ATC facility that has jurisdicaiton over the airspace where the jump will take place. In many cases, the pilot or jump proponent does not know which ATC radio frequencies are designated for the sector where the parachute operation will take place. By incorporating this change into the final rule, the pilot will know which ATC facility is the appropriate one to contact, and that facility may issue the appropriate frequency to the pilot.

In addition, the FAA understands that there may be some circumstances where the registration number of the jump aircraft is not known until the day of the hump. If this is the case, multiple registration numbers may be submitted along with an explanation to the ATC facility. Knowing the registration number of the aircraft identifies to the controllers the aircraft that will be involved in the jump operation. Having the aircraft identification number makes the intentions of the pilot contained in the authorization available to the controller, and therefore, reduces radio frequency congestion. The rule language remains as proposed.

The FAA has also added clarifying language to paragraph (a)(8), requiring persons requesting an authorization to conduct a parachute operation to provide the name of that air traffic control facility having jurisdiction of the airspace at the “first intended” exist altitude to be used in that parachute operation. The FAA believes this clarifying language is necessary to ensure that radio communication are established between the pilot of the hump aircraft and the appropriate air traffic control facility. Therefore, this phrase has been added to § 105.15(a)(8) in the final rule.

Section 105.19 Parachute Operations Between Sunset and Sunrise

Proposal: Proposed § 105.19 would have added a requirement for parachutist(s) and objects descending from an aircraft to display a light which is visible for 3 statute miles in all directions.

Comments: Several commenters, including the USPA and the Southwest Airlines Pilot's Association, object to the requirement to display a light that is visible “in all directions.” The commenters believe it would require that a parachutist or an object be equipped with more than one light.

FAA response: The FAA has revisited this proposal and agrees with the commenters. Therefore, the FAA is rescinding the proposal and has deleted the phrase “in all directions” in the final rule. The common practice of mounting a light on the parachutist's helmet should make him or her visible to aircraft operating on the same horizontal plane. A helmet-mounted light may not be visible to aircraft flying at higher or lower altitudes than the parachutist, but the parachutist should not present a hazard to those aircraft. In addition, the requirement to have a light that is visible “in all directions” would require that a parachutist be equipped with two lights which would exceed the requirements for aircraft lights in part 91. Therefore, the phrase “in all directions” is not included in the final rule.

Section 105.21 Parachute Operations Over or Into a Congested Area or an Open Air Assembly of Persons

Proposal: In the NPRM, the FAA proposed to remove the 4-day requirement to apply for a certificate of authorization to make a parachute jump over or into congested areas or open air assemblies since that amount of time for processing certificates of authorization is no longer necessary.

Comments: Several commenters, including USPA, oppose deleting the 4-day reporting requirement, because in the commenters' opinion, it may take the FAA longer than 4 days to process a certificate of authorization. All of the commenters request that the regulation be amended to require processing of applications for certificates of authorization within 5 business days after submission, instead of leaving the processing time unspecified.

FAA response: The FAA does not agree with the commenters that removing the 4-day reporting requirement will increase the time it takes the FAA to process a certificate of authorization. The FAA and the parachute industry may use current technology (i.e., computers and fax capability) which makes it possible to process certificates of authorization in less than 4 days. Currently, the FAA uses this technology to issue certificates of authorization for other aviation events (i.e., air shows). Therefore, the FAA has determined that removing the 4-day reporting requirement will not cause additional processing delays and will actually expedite the process. The requirement is adopted in the final rule, as proposed.

Section 105.23 Parachute Operations Over or Onto Airports

Proposal: Currently, unless prior approval has been given by aircraft management, part 105 prohibits parachute operations over or onto any airport that does not have a functioning control tower operated by the United States. In the NPRM, the FAA proposed amending the regulation to require pilots of aircraft conducting parachute operations to contact the air traffic control tower having jurisdiction over the area where parachute operations are taking place, regardless of who is responsible for tower operations.

Comments: The commenters did not offer specific comments on the proposed change to this section. However, many commenters disagree with the current rule language which grants airport managers the authority to approve parachute operations over or onto the airports.

FAA response: The FAA did not propose an amendment to change the longstanding policy authorizing airport managers to grant approval for parachute operations over or onto their airport. The comments are therefore, outside the scope of the NPRM, and have not been considered.

Section 105.25 Parachute Operations in Designated Airspace

Proposal: The FAA proposed to prohibit parachute operations in restricted or prohibited areas unless authorized by the controlling agency of the area concerned. The FAA also proposed to prohibit parachute operations in Class A, B, C, or D airspace without an air traffic control authorization. Further, the FAA proposed to prohibit parachute operations within Class E or G airspace unless the air traffic control facility having jurisdiction over the affected airspace is notified of the parachute operation no earlier than 24 hours before or not later than 1 hour before the parachute operation begins.

Comments: There were no substantive comments received on this section.

FAA response: Although there were no comments received on this section, the FAA determined that in paragraph (c) of this section, “air traffic control” should be replaced with “the FAA” to indicate that other FAA organizations, besides air traffic, may revoke the acceptance of the notification for any failure of the organization conducting the parachute operations to comply with FAA requirements. With the exception of this change, this section remains as proposed.

Section 105.27 Accident Reporting Requirements

Proposal: Currently, there are no FAA requirements to report accidents involving parachutist. In the NPRM the FAA proposed a new section which would require the parachutist(s), the pilot of the aircraft, or the drop zone owner or operator to notify the FAA within 48 hours of any parachute operation resulting in a serious or fatal injury to the parachutist.

Comments: Numerous commenters, including USPA, AOPA, and Southwest Airlines Pilot's Association strongly oppose this proposed requirement, while one commenter supports it. Most of the commenter state that the pilot should not be responsible for reporting an accident because it would be very difficult for the pilot to know if a parachutist who jumped from his or her aircraft was injured from the fall. Several commenters state that only “serious” injuries, requiring a physician's attention, should be reported. In addition, several commenters also dispute the number of estimated parachute jumping accidents per year that was used as a basis for cost analysis and determining paperwork burden, versus the number of accidents that actually occur.

FAA response: Based on the comments received, the FAA has revisited its original proposal to determine whether or not current FAA policy, as well as industry practices, provide adequate information pertaining to parachute operation incidents.

The FAA believed that collection and review of information pertaining to parachute operation accidents could be used to assess the safety of parachute operations and assist in preventing future parachute accidents.

However, to be effective, this data collection requires a system, or infrastructure, to collect, store and evaluate the information, which the FAA does not have the resources to support at this time. In addition, this requirement imposes a significant paperwork burden on individuals conducting or participating in parachute operations. After considering the lack of available FAA resources and the paperwork burden that would be necessary to meet this requirement, the FAA has concluded that the infrastructure for this type of data collection is currently unavailable, and that the paperwork burden would be excessive.

Additionally, the FAA and the USPA have a close working relationship with regard to the safe conduct of parachute operations within the National Airspace System. When safety issues surface within either organization, an exchange of information is commonplace. We expect this relationship to continue, and believe that cooperation between the two organizations will provide the same, if not a better alternative than regulations at this time.

Therefore, § 105.27 and the definitions in § 105.3 associated with this section (i.e., “fatal injury” and “serious injury”) are not included in the final rule. Although this section is not adopted in the final rule, the FAA will continue to monitor the safety of parachute operations and the possible need for accident reporting requirements for possible consideration in a future rulemaking action.

Subpart C—Parachute Equipment and Packing

Section 105.43 Use of Single-Harness, Dual-Parachute Systems

Proposal: Currently, the rule provides that only a certificated parachute rigger, or the person making the parachute jump with that parachute, may pack a main parachute. The FAA proposed that a non-certificated person also may pack a main parachute under the direct supervision of a certificated parachute rigger. The FAA also proposed that if installed, the automatic activation device (AAD) must be maintained in accordance with manufacturer instructions for that AAD.

Comments: Several commenters, including USPA, believe that the responsibility for the safety of parachute equipment should rest with the certificated rigger and the parachute jumper, not the pilot of the aircraft used for the jump, as current stated in § 105.43(a).

In addition, the USPA states that the certificated rigger should be on the premises during parachute packing, and thus available for personal consultation.

Several commenters support the current 120-day repack cycle requirement, which was also included in the proposal. Numerous commenters oppose the current 120-day repack cycle, and favor either a 180-day or a 6-month repack cycle.

Several commenters, including USPA, request the deletion of § 105.43(b)(3), which requires that if AAD's are installed, they must be maintained in accordance with the manufacturer's instructions. The USPA states that if this paragraph is retained in the final rule, there is no method of documentation available for a pilot to verify that the AAD is in compliance with the manufacturer's guidelines/instructions, and thus, in compliance with the rule. In addition, other commenters note that this piece of equipment is supplemental and does not require FAA certification, therefore, it should not be included in the regulation.

FAA response: The FAA agrees with the commenters who request that the certificated rigger should be held responsible for packing the parachute properly. However, this requirement is not new to the regulations. Certificated riggers have always been responsible for the proper rigging of a parachute, which is evident from the fact that the rigger is required to obtain a certificate. Section 65.129 of the regulations further requires that the certificated rigger ensure that parachutes are packed in accordance with the Administrator's and manufacturer's requirements. The FAA has adopted the revision of “supervision” to “direct supervision,” and has included the phrase “takes responsibility for that packing” in definition.

The FAA cannot agree entirely with those commenters who believe that the pilot should not be held responsible for the safety of the parachute equipment. The FAA wants to retain this longstanding requirement in the final rule for more than one reason. First and foremost, the pilot is the final checkpoint for equipment that a parachutist encounters before jumping from the aircraft. The pilot merely verifies that the jumper's equipment is properly inspected, which is not a burdensome task. The FAA believes that the pilot should bear this burden because the pilot has responsibility for the safety of the parachutist(s) while they are aboard the aircraft and the FAA believes that this responsibility should include ensuring that the parachutist(s) are using proper equipment.

The FAA agrees with the USPA's recommendation that a certificated rigger should be on the premises during parachute packing and available for personal consultation. The FAA also believes a certificated rigger should directly supervise the packing of the parachute. It is not sufficient, from a safety standpoint, to have a non-certificated person pack a parachute without a certificated rigger directly supervising the packing, and ensuring that it is done properly. Accordingly, § 105.43(a) is adopted as proposed.

With regard to the repack cycle, the 180-day and 6 month repack cycles were not part of the original proposal; therefore, they are outside the scope of this rulemaking. The requirement for a 120-day repack cycle is retained in the final rule.

The FAA disagrees with the commenters' request to delete § 105.43(b)(3), which requires that if AAD's are installed, they must be maintained in accordance with the manufacturer's instructions. Although AAD's are not subject to approval under a TSO or airworthiness certification, the FAA believes this requirement is necessary for safety considerations, even though AAD's are an optional piece of equipment, except in tandem operations. Therefore, this requirement is retained in the final rule.

The FAA also made a correction to the paragraph designation of this section. In the proposal, paragraph (b)(3) was incorrectly labeled; it has been correctly designated as paragraph (c) in the final rule.

Section 105.45 Use of Tandem Parachute Systems

Proposal: This proposed section provided for tandem parachute operations, and incorporated the conditions and limitations, with some modification, set forth in the grants of exemption issued to experimental tandem parachute operators. These conditions and limitations include instructor experience requirements, briefings for passenger parachutists, equipment inspections, and packing requirements.

In addition, the FAA proposed that a certificated parachute rigger supervise persons packing parachutes who are not certificated by the FAA, unless the person packing the parachute is a parachutist in command.

Comments: Several commenters, including USPA, recommend that manufacturer's directives for tandem parachute systems be made mandatory. The commenters also request that the number of freefall jumps to qualify as a tandem jump instructor be changed from 300 of 500 freefall jumps with a ram air parachute to 500 freefall jumps, because currently, only ram air parachutes are used. According to the commenters, this change would reflect the recommendation by USPA and the manufacturers for tandem jump instructor qualifications.

FAA response: The USPA's recommendation that the manufacturer's directives for tandem parachute systems should be mandatory is outside the scope of this rulemaking, and therefore, cannot be addressed at this time.

The FAA has decided to eliminate the requirement that 300 of the 500 freefall jumps must be made using a ram air parachute. The commenters correctly point out that round have long become obsolete. Today, almost all jumps are made with ram air parachutes. The FAA has changed this requirement to 500 jumps using a ram-air parachute in the final rule.

Section 105.47 Use of Static Lines

Proposal: The current rule requires that no person may make a parachute jump using a static line unless an assist device is used to aid the pilot chute in performing its function, or if no pilot chute is used, to aid in the direct deployment of the main parachute canopy. The Notice proposed to remove the requirement that assist devices must be used with ram-air parachutes.

Comments: Several commenters, including USPA, submitted comments on this proposed section. The commenters ask that the term “direct-deployed” be changed to “direct-bag deployed” and that the term “ram-air parachutes” be replaced with the term “ram-air canopies,” because according to the commenters, these terms are used currently in the parachute industry.

FAA response: The FAA does not agree with these commenters. The use of the terms “ram-air canopies” and “ram-air parachutes” are nearly synonymous in the parachute industry, as are the terms “direct-bag deployed” and “direct deployed.” Therefore, these terms are adopted as proposed.

Section 105.49 Foreign Parachutists and Equipment

Proposal: This new section will be added to address equipment and packing requirements for foreign parachutists. Only single-harness, dual-parachute systems which contain a non-technical standard order (TSO) reserve parachute or non-TSO'd harness and container would be allowed to be used in the United States by the owner or agent of that equipment. The parachute system used by the foreign parachutist must also meet the civil aviation authority requirements of the foreign parachutist's country, and must be packed by the foreign parachutist making the next parachute jump with that parachute, or a U.S. certificate parachute rigger.

Comments: Several commenters, including the USPA, believe that this section needs clarification. For example, the commenters suggest that the FAA should clarify that when a foreign jumper brings a parachute system into the United States, the foreign parachute system should be subject to the U.S. repack cycle (120 days).

FAA response: The FAA does not agree with the commenter's recommendations that the foreign parachute system should be subject to the U.S. repack cycle (120 days). The FAA has already determined that foreign parachute systems must meet the requirements of their country or its civil aviation authority. This section is incorporated into the final rule as proposed, with one exception. In the proposal, the two subparagraphs in paragraph (a)(4) were incorrectly labeled (a) and (b); they have been correctly designated as (i) and (ii), respectively, in the final rule.

Section 119.1 Applicability

Proposal: Currently, § 119.1(e)(6) provides an exception for nonstop flights conducted within a 25 statute mile radius of the airport of takeoff carrying persons for the purpose of intentional parachute jumps. The FAA proposed to amend this section to add the word “objects” in addition to “persons” when a flight is conducted for intentional parachute operations.

Comments: Several commenters, including USPA, submitted comments on this proposed section. Some commenters ask for the elimination of this section, as they claim it is unnecessary, given the nature of parachute operations today. Several other commenters, including USPA, suggest that the 25-statue mile limit be increased to a 100-statute mile limit of the departure airport.

FAA response: The FAA does not agree with the commenters' requested changes. Since the request to increase the statute mile limit from 25 to 100 statute miles from the airport of departure, is outside the scope of the Notice, it will not be considered in this action. Therefore, the language originally proposed in the Notice is retained in the final rule.

Paperwork Reduction Act

At the NPRM stage of this final rule, the FAA proposed a requirement for accident reporting. Because this requirement involved the voluntary submission of information from the public on accidents involving parachute operations, the FAA prepared an estimate of the paperwork burden that would be required of the public and submitted it to OMB for approval. However, after reviewing the comments received from the public on the accident reporting proposal in the NPRM, the FAA has decided not to include this requirement in the final rule. Therefore, in accordance with the Paperwork Reduction Act of 1995 (44 U.S.C. 3507(d)), the agency has determined that there are no longer information requirements associated with this final rule.

International Compatibility

The FAA has reviewed corresponding International Civil Aviation Organization international standards and recommended practices and Joint Aviation Authorities requirements and has identified no differences in these proposed amendments and the foreign regulations.

Economic Evaluation, Regulatory Flexibility Determination, International Trade Impact Assessment, and Unfunded Mandates Assessment

Proposed changes to Federal regulations must undergo several economic analyses. First, Executive Order 12866 directs each Federal Agency to propose or adopt a regulation only if the agency makes a reasoned determination that the benefits of the intended regulation justify its costs. Second, the Regulatory Flexibility Act of 1980 requires agencies to analyze the economic impact of regulatory changes on small entities. Third, the Trade Agreements Act (19 U.S.C. 2531-2533) prohibits agencies from setting standards that create unnecessary obstacles to the foreign commerce of the United States. In developing U.S. standards, this Trade Act requires agencies to consider international standards. Where appropriate, agencies are directed to use those international standards as the basis of U.S. standards. And fourth, the Unfunded Mandates Reform Act of 1995 requires agencies to prepare a written assessment of the costs, benefits and other effects of proposed or final rules. This requirement applies only to rules that include a Federal mandate on State, local, or tribal governments, or the private sector, likely to result in a total expenditure of $100 million or more in any one year (adjusted for inflation).

In conducting these analyses, the FAA has determined this rule: (1) Has benefits which do justify its costs, is not a “significant regulatory action” as defined in the Executive Order, and is not “significant” as defined in DOT's Regulatory Policies and Procedures; (2) will not have a significant impact on a substantial number of small entities; (3) will not impose restraints on international trade; and (4) does not impose an unfunded mandate on State, local, or tribal governments, or on the private sector. The FAA has placed these analyses in the docket and summarized them below.

This final rule will amend the regulations that govern parachute operations. Amendments to the regulations reflect changes in the requirements applicable to radio communications, parachute packing, tandem parachute operations, and foreign parachutists. Through this rule, the FAA intends to enhance the safety of parachute operations in the National Airspace System (NAS).

The benefits of the final rule are: (1) It should reduce the risk of a midair collision between aircraft and persons engaged in parachute operations, and reduce the risk of aircraft coming in close proximity to the parachutists in the vicinity of an airport or within controlled airspace; (2) it will revise some sections of the rule for better understanding; and (3) it will permit certain operations that currently are only allowed through exemptions granted by the FAA.

The amendments to part 105 will impose negligible additional cost, if any, on parachutists, pilots of aircraft used in parachute operations, certificated parachute riggers, and drop zone operators. Major aspects of this rule such as the requirements for tandem parachute operations and for parachute jumps by foreign parachutists already are being met under exemptions granted by the FAA. Therefore, this rulemaking action will not impose additional business expenses on drop zone operators, parachute clubs, or foreign parachutists. Costs imposed on the FAA are negligible, since the agency will not be required to provide additional oversight of parachute operations under the revision of parts 65, 91, 105, and 119.

In view of the negligible additional cost of compliance to the final rule, compared with the improvements in operating procedures that enhance the safety of parachute operations, the FAA has determined that the final rule is cost-justified.

Final Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to the regulation.” To achieve that principle, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis as described in the Act.

However, if an agency determines that a proposed or final rule is not expected to have a significant economic impact on a substantial number of small entities, section 605(b) of the 1980 Act provides that the head of the agency may so certify and a regulatory flexibility analysis is not required. The certification must include a statement providing the factual basis for this determination, and the reasoning should be clear.

The FAA conducted the required review of this final rule and determined that it will not have a significant economic impact on a substantial number of small entities. The small entities affected by this final rule consist of parachutists, pilots of aircraft used in parachute operations, certificated riggers, and drop zone operators. The final rule will impose negligible additional cost, if any, on the entities. Major aspects of this rulemaking such as permitting tandem parachute operations will not impose additional business expenses for compliance on drop zone operators or parachute clubs because these entities currently adhere to the requirements of the rule through grants of exemptions issued by the FAA under part 105. Accordingly, pursuant to the Regulatory Flexibility Act, 5 U.S.C. 605(b), the FAA certifies that this final rule will not have a significant economic impact on a substantial number of small entities.

International Trade Impact Statement

The Trade Agreement Act of 1979 prohibits Federal agencies from engaging in any standards or related activity that create unnecessary obstacles to the foreign commerce of the United States. Legitimate domestic objectives, such as safety, are not considered unnecessary obstacles. The statute also requires consideration of international standards and where appropriate, that they be the basis for U.S. standards. In addition, consistent with the Administrator's belief in the general superiority and desirability of free trade, it is the policy of the Administration to remove or diminish, to the extent feasible, barriers to international trade, including both barriers affecting the export of American goods and services to foreign countries and barriers affecting the import of foreign goods and services into the United States.

The FAA has determined that the rule will promote parachuting by foreign parachutists in the United States. The final rule will permit foreign parachutists to jump in the United States using parachutes that are packed in their country of origin and thereby encourage foreign countries to grant permission for U.S. skydivers to jump in those countries using parachutes packed in the United States.

Unfunded Mandates Reform Act

The Unfunded Mandates Reform Act of 1995 (the Act), enacted as Pub. L. 104-4 on March 22, 1995, is intended, among other things, to curb the practice of imposing unfunded Federal mandates on State, local, and tribal governments.

Title II of the Act requires each Federal agency to prepare a written statement assessing the effects of any Federal mandate in a proposed or final agency rule that may result in a $100 million or more expenditure (adjusted annually for inflation) in any one year by State, local, and tribal governments, in the aggregate, or by the private sector; such a mandate is deemed to be a “significant regulatory action.”

This final rule does not contain such a mandate. Therefore, the requirements of Title II of the Unfunded Mandates Reform Act of 1995 do not apply.

Executive Order 13132, Federalism

The FAA has analyzed this final rule under the principles and criteria of Executive Order 13132, Federalism. It has determined that this action will not have a substantial direct effect on the States, or the relationship betwen the national Government and the States, or on the distribution of power and responsibilities among the various levels of government. Therefore, the FAA has detemined that this final rule does not have federalism implications.

Environmental Analysis

FAA Order 1050.1D defines FAA actions that may be categorically excluded from preparation of a National Environmental Policy Act (NEPA) environmental impact statement. In accordance with FAA Order 1050.1D, appendix 4, paragraph 4(j), this rulemaking action qualifies for a categorical exclusion.

Energy Impact

The energy impact of the final rule has been assessed in accordance with the Energy Policy and Conservation Act (EPCA) Pub. L. 94-163, as amended (42 U.S.C. 6362) and FAA Order 1053.1. It has been determined that the final rule is not a major regulatory action under the provisions of the EPCA.

Distribution and Derivation Tables

The following distribution table is provided to illustrates how the current regulation would relate to the revised part 105, and the derivation table identifies how the revised part 105 would relate to the current rule.

Distribution Table
Old section | New section(s)
105.1 | 105.1
105.11 | 105.1
105.13 | 105.5
105.14 | 105.13
105.15 | 105.21
105.17 | 105.23
105.19 | 105.25
105.23 | 105.25
105.25 | 105.15
105.33 | 105.19
105.35 | 105.7
105.37 | 105.9
105.41 | 105.41
105.43 | 105.43 and 105.47

Derivation Table
New section | Old section(s)
105.1 | 105.1 and 105.11
105.3 | New
105.5 | 105.13
105.7 | 105.35
105.9 | 105.37
105.13 | 105.14
105.15 | 105.25
105.17 | 105.29
105.19 | 105.33
105.21 | 105.15
105.23 | 105.17
105.25 | 105.19 and 105.23
105.41 | 105.41
105.43 | 105.43
105.45 | New
105.47 | 105.43

List of Subjects

14 CFR Part 65

Air traffic controllers, Aircraft, Airmen, Airports, Alcohol abuse, Drug abuse, Reporting and recordkeeping requirements.

14 CFR Part 91

Afghanistan, Agriculture, Air traffic control, Aircraft, Airmen, Airports, Aviation safety, Canada, Cuba, Freight, Mexico, Noise control, Political candidates, Reporting and recordkeeping requirements, Yugoslavia.

14 CFR Part 105

Aircraft, Aviation safety, Recreation and recreation areas, Reporting and recordkeeping requirements.

14 CFR Part 119

Administrative practice and procedure, Air carriers, Aircraft, Aviation safety, Charter flights, Reporting and recordkeeping requirements.

The Amendment

In consideration of the foregoing, the Federal Aviation Administration amends parts 65, 91, 105, and 119 of Title 14 Code of Federal Regulations as follows:

PART 65—CERTIFICATION: AIRMEN OTHER THAN FLIGHT CREWMEMBERS

1. The authority citation for part 65 continues to read as follows:

Authority: 49 U.S.C. 106(g), 40113, 44701-44703, 44707, 44709-44711, 45102-45103, 45301-45302.

2. Section 65.111 is amended by revising paragraphs (a) and (b) to read as follows:

§ 65.111 Certificate required.

(a) No person may pack, maintain, or alter any personnel-carrying parachute intended for emergency use in connection with civil aircraft of the United States (including the reserve parachute of a dual parachute system to be used for intentional parachute jumping) unless that person holds an appropriate current certificate and type rating issued under this subpart and complies with §§ 65.127 through 65.133.

(b) No person may pack, maintain, or alter any main parachute of a dual-parachute system to be used for intentional parachute jumping in connection with civil aircraft of the United States unless that person—

(1) Has an appropriate current certificate issued under this subpart;

(2) Is under the supervision of a current certificated parachute rigger;

(3) Is the person making the next parachute jump with that parachute in accordance with § 105.43(a) of this chapter; or

(4) Is the parachutist in command making the next parachute jump with that parachute in a tandem parachute operation conducted under § 105.45(b)(1) of this chapter.

* * * * *

3. Section 65.125 is amended by revising paragraphs (a)(2) and (b)(2) to read as follows:

§ 65.125 Certificates: Privileges.

(a) * * *

(2) Supervise other persons in packing any type of parachute for which that person is rated in accordance with § 105.43(a) or § 105.45(b)(1) of this chapter.

(b) * * *

(2) Supervise other persons in packing, maintaining, or altering any type of parachute for which the certificated parachute rigger is rated in accordance with § 105.43(a) or § 105.45(b)(1) of this chapter.

* * * * *

PART 91—GENERAL OPERATING AND FLIGHT RULES

4. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

5. Section 91.307 is amended by revising paragraph (b) to read as follows:

§ 91.307 Parachutes and parachuting.

* * * * *

(b) Except in an emergency, no pilot in command may allow, and no person may conduct, a parachute operation from an aircraft within the United States except in accordance with part 105 of this chapter.

* * * * *

6. Part 105 is revised to read as follows:

PART 105—PARACHUTE OPERATIONS

Subpart A—General
105.1 Applicability.
105.3 Definitions.
105.5 General.
105.7 use of alcohol and drugs.
105.9 Inspections.
Subpart B—Operating Rules
105.13 Federal RegisterRadio equipment and use requirements.
105.15 Information required and notice of cancellation or postponement of a parachute operation.
105.17 Flight visibility and clearance from cloud requirements.
105.19 Parachute operations between sunset and sunrise.
105.21 Parachute operations over or into a congested area or an open-air assembly of persons.
105.23 Parachute operations over or onto airports.
105.25 Parachute operations in designated airspace.
Subpart C—Parachute Equipment and Packing
105.41 Applicability.
105.43 Use of single-harness, dual-parachute systems.
105.45 Use of tandem parachute systems.
105.47 Use of static lines.
105.49 Foreign parachutists and equipment.

Authority: 49 U.S.C. 106(g), 40113-40114, 44701-44702, 44721.

§ 105.1 Applicability.

(a) Except as provided in paragraphs (b) and (c) of this section, this part prescribes rules governing parachute operations conducted in the United States.

(b) This part does not apply to a parachute operation conducted—

(1) In response to an in-flight emergency, or

(2) To meet an emergency on the surface when it is conducted at the direction or with the approval of an agency of the United States, or of a State, Puerto Rico, the District of Columbia, or a possession of the United States, or an agency or political subdivision thereof.

(c) Sections 105.5, 105.9, 105.13, 105.15, 105.17, 105.19 through 105.23, 105.25(a)(1) and 105.27 of this part do not apply to a parachute operation conducted by a member of an Armed Force—

(1) Over or within a restricted area when that area is under the control of an Armed Force.

(2) During military operations in uncontrolled airspace.

§ 105.3 Definitions.

For the purposes of this part—

Approved parachute means a parachute manufactured under a type certificate or a Technical Standard Order (C-23 series), or a personnel-carrying U.S. military parachute (other than a high altitude, high speed, or ejection type) identified by a Navy Air Facility, an Army Air Field, and Air Force-Navy drawing number, an Army Air Field order number, or any other military designation or specification number.

Automatic Activation Device means a self-contained mechanical or electro-mechanical device that is attached to the interior of the reserve parachute container, which automatically initiates parachute deployment of the reserve parachute at a pre-set altitude, time, percentage of terminal velocity, or combination thereof.

Direct Supervision means that a certificated rigger personally observes a non-certificated person packing a main parachute to the extent necessary to ensure that it is being done properly, and takes responsibility for that packing.

Drop Zone means any pre-determined area upon which parachutists or objects land after making an intentional parachute jump or drop. The center-point target of a drop zone is expressed in nautical miles from the nearest VOR facility when 30 nautical miles or less; or from the nearest airport, town, or city depicted on the appropriate Coast and Geodetic Survey World Aeronautical Chart or Sectional Aeronautical Chart, when the nearest VOR facility is more than 30 nautical miles from the drop zone.

Foreign parachutist means a parachutist who is neither a U.S. citizen or a resident alien and is participating in parachute operations within the United States using parachute equipment not manufctured in the United States.

Freefall means the portion of a parachute jump or drop between aircraft exit and parachute deployment in which the parachute is activated manually by the parachutist at the parachutist's discretion or automatically, or, in the case of an object, is activated automatically.

Main parachute means a parachute worn as the primary parachute used or intended to be used in conjunction with a reserve parachute.

Object means any item other than a person that descends to the surface from an aircraft in flight when a parachute is used or is intended to be used during all or part of the descent.

Parachute drop means the descent of an object to the surface from an aircraft in flight when a parachute is used or intended to be used during all or part of that descent.

Parachute jump means a parachute operation that involves the descent of one or more persons to the surface from an aircraft in flight when a aircraft is used or intended to be used during all or part of that descent.

Parachute operation means the performance of all activity for the purpose of, or in support of, a parachute jump or a parachute drop. This parachute operation can involve, but is not limited to, the following persons: parachutist, parachutist in command and passenger in tandem parachute operations, drop zone or owner or operator, jump master, certificated parachute rigger, or pilot.

Parachutist means a person who intends to exit an aircraft while in flight using a single-harness, dual parachute system to descend to the surface.

Parachutist in command means the person responsible fro the operation and safety of a tandem parachute operation.

Passenger parachutist means a person who boards an aircraft, acting as other than the parachutist in command of a tandem parachute operation, with the intent of existing the aircraft while in-flight using the forward harness of a dual harness tandem parachute system to descend to the surface.

Pilot chute means a small parachute used to initiate and/or accelerate deployment of a main or reserve parachute.

Ram-air parachute means a parachute with a canopy consisting of an upper and lower surface that is inflated by ram air entering through specially designed openings in the front of the canopy to form a gliding airfoil.

Reserve parachute means an approved parachute worn for emergency use to be activated only upon failure of the main parachute or in any other emergency where use of the main parachute is impractical or use of the main parachute would increase risk.

Single-harness, dual parachute system: means the combination of a main parachute, approved reserve parachute, and approved single person harness and dual-parachute container. This parachute system may have an operational automatic activation device installed.

Tandem parachute operation: means a parachute operation in which more than one person simultaneously uses the same tandem parachute system while descending to the surface from an aircraft in flight.

Tandem parachute system: means the combination of a main parachute, approved reserve parachute, and approved harness and dual parachute container, and a separate approved forward harness for a passenger parachutist. This parachute system must have an operational automatic activation device installed.

§ 105.5 General.

No person may conduct a parachute operation, and no pilot in command of an aircraft may allow a parachute operation to be conducted from an aircraft, if that operation creates a hazard to air traffic or to persons or property on the surface.

§ 105.7 Use of alcohol and drugs.

No person may conduct a parachute operation, and no pilot in command of an aircraft may allow a person to conduct a parachute operation from that aircraft, if that person is or appears to be under the influence of—

(a) Alcohol, or

(b) Any drug that affects that person's faculties in any way contrary to safety.

§ 105.9 Inspections.

The Administrator may inspect any parachute operation to which this part applies (including inspections at the site where the parachute operation is being conducted) to determine compliance with the regulations of this part.

Subpart B—Operating Rules

§ 105.13 Radio equipment and use requirements.

(a) Except when otherwise authorized by air traffic control—

(1) No person may conduct a parachute operation, and no pilot in command of an aircraft may allow a parachute operation to be conducted from that aircraft, in or into controlled airspace unless, during that flight—

(i) The aircraft is equipped with a functioning two-way radio communication system appropriate to the air traffic control facilities being used; and

(ii) Radio communications have been established between the aircraft and the air traffic control facility having jurisdiction over the affected airspace of the first intended exit altitude at least 5 minutes before the parachute operation begins. The pilot in command must establish radio communications to receive information regarding air traffic activity in the vicinity of the parachute operation.

(2) The pilot in command of an aircraft used for any parachute operation in or into controlled airspace must, during each flight—

(i) Continuously monitor the appropriate frequency of the aircraft's radio communications system from the time radio communications are first established between the aircraft and air traffic control, until the pilot advises air traffic control that the parachute operation has ended for that flight.

(ii) Advise air traffic control when the last parachutist or object leaves the aircraft.

(b) Parachute operations must be aborted if, prior to receipt of a required air traffic control authorization, or during any parachute operation in or into controlled airspace, the required radio communications system is or becomes inoperative.

§ 105.15 Information required and notice of cancellation or postponement of a parachute operation.

(a) Each person requesting an authorization under §§ 105.21(b) and 105.25(a)(2) of this part and each person submitting a notification under § 105.25(a)(3) of this part must provide the following information (on an individual or group basis):

(1) The date and time the parachute operation will begin.

(2) The radius of the drop zone around the target expressed in nautical miles.

(3) The location of the center of the drop zone in relation to—

(i) The nearest VOR facility in terms of the VOR radial on which it is located and its distance in nautical miles from the VOR facility when that facility is 30 nautical miles or less from the drop zone target; or

(ii) the nearest airport, town, or city depicted on the appropriate Coast and Geodetic Survey World Aeronautical Chart or Sectional Aeronautical Chart, when the nearest VOR facility is more than 30 nautical miles from the drop zone target.

(4) Each altitude above mean sea level at which the aircraft will be operated when parachutists or objects exist the aircraft.

(5) The duration of the intended parachute operation.

(6) The name, address, and telephone number of the person who requests the authorization or gives notice of the parachute operation.

(7) The registration number of the aircraft to be used.

(8) The name of the air traffic control facility with jurisdiction of the airspace at the first intended exit altitude to be used for the parachute operation.

(b) Each holder of a certificate of authorization issued under §§ 105.21(b) and 105.25(b) of this part must present that certificate for inspection upon the request of the Administrator or any Federal, State, or local official.

(c) Each person requesting an authorization under §§ 105.21(b) and 105.25(a)(2) of this part and each person submitting a notice under § 105.25(a)(3) of this part must promptly notify the air traffic control facility having jurisdiction over the affected airspace if the proposed or scheduled parachute operation is canceled or postponed.

§ 105.17 Flight visibility and clearance from cloud requirements.

No person may conduct a parachute operation, and no pilot in command of an aircraft may allow a parachute operation to be conducted from that aircraft—

(a) Into or through a cloud, or

(b) When the flight visibility or the distance from any cloud is less than that prescribed in the following table:

Altitude | Flight visibility (statute miles) | Distance from clouds
1,200 feet or less above the surface regardless of the MSL altitude | 3 | 500 feet below, 1,000 feet above, 2,000 feet horizontal.
More than 1,200 feet above the surface but less than 10,000 feet MSL | 3 | 500 feet below, 1,000 feet above, 2,000 feet horizontal.
More than 1,200 feet above the surface and at or above 10,000 feet MSL | 5 | 1,000 feet below, 1,000 feet above, 1 mile horizontal.

§ 105.19 Parachute operations between sunset and sunrise.

(a) No person may conduct a parachute operation, and no pilot in command of an aircraft may allow a person to conduct a parachute operation from an aircraft between sunset and sunrise, unless the person or object descending from the aircraft displays a light that is visible for at least 3 statute miles.

(b) The light required by paragraph (a) of this section must be displayed from the time that the person or object is under a properly functioning open parachute until that person or object reaches the surface.

§ 105.21 Parachute operations over or into a congested area or an open-air assembly of persons.

(a) No person may conduct a parachute operation, and no pilot in command of an aircraft may allow a parachute operation to be conducted from that aircraft, over or into a congested area of a city, town, or settlement, or an open-air assembly of persons unless a certificate of authorization for that parachute operation has been issued under this section. However, a parachutist may drift over a congested area or an open-air assembly of persons with a fully deployed and properly functioning parachute if that parachutist is at a sufficient altitude to avoid creating a hazard to persons or property on the surface.

(b) An application for a certificate of authorization issued under this section must—

(1) Be made in the form and manner prescribed by the Administrator, and

(2) Contain the information required in § 105.15(a) of this part.

(c) Each holder of, and each person named as a participant in a certificate of authorization issued under this section must comply with all requirements contained in the certificate of authorization.

(d) Each holder of a certificate of authorization issued under this section must present that certificate for inspection upon the request of the Administrator, or any Federal, State, or local official.

§ 105.23 Parachute operations over or onto airports.

No person may conduct a parachute operation, and no pilot in command of an aircraft may allow a parachute operation to be conducted from that aircraft, over or onto any airport unless—

(a) For airports with an operating control tower:

(1) Prior approval has been obtained from the management of the airport to conduct parachute operations over or on that airport.

(2) Approval has been obtained from the control tower to conduct parachute operations over or onto that airport.

(3) Two-way radio communications are maintained between the pilot of the aircraft involved in the parachute operation and the control tower of the airport over or onto which the parachute operation is being conducted.

(b) For airports without an operating control tower, prior approval has been obtained from the management of the airport to conduct parachute operations over or on that airport.

(c) A parachutist may drift over that airport with a fully deployed and properly functioning parachute if the parachutist is at least 2,000 feet above that airport's traffic pattern, and avoids creating a hazard to air traffic or to persons and property on the ground.

§ 105.25 Parachute operations in designated airspace.

(a) No person may conduct a parachute operation, and no pilot in command of an aircraft may allow a parachute operation to be conducted from that aircraft—

(1) Over or within a restricted area or prohibited area unless the controlling agency of the area concerned has authorized that parachute operation;

(2) Within or into a Class A, B, C, D airspace area without, or in violation of the requirements of, an air traffic control authorization issued under this section;

(3) Except as provided in paragraph (c) and (d) of this section, within or into Class E or G airspace area unless the air traffic control facility having jurisdiction over the airspace at the first intended exit altitude is notified of the parachute operation no earlier than 24 hours before or no later than 1 hour before the parachute operation begins.

(b) Each request for a parachute operation authorization or notification required under this section must be submitted to the air traffic control facility having jurisdiction over the airspace at the first intended exit altitude and must include the information prescribed by § 105.15(a) of this part.

(c) For the purposes of paragraph (a)(3) of this section, air traffic control facilities may accept a written notification from an organization that conducts parachute operations and lists the scheduled series of parachute operations to be conducted over a stated period of time not longer than 12 calendar months. The notification must contain the information prescribed by § 105.15(a) of this part, identify the responsible persons associated with that parachute operation, and be submitted at least 15 days, but not more than 30 days, before the parachute operation begins. The FAA may revoke the acceptance of the notification for any failure of the organization conducting the parachute operations to comply with its requirements.

(d) Paragraph (a)(3) of this section does not apply to a parachute operation conducted by a member of an Armed Force within a restricted area that extends upward from the surface when that area is under the control of an Armed Force.

Subpart C—Parachute Equipment and Packing

§ 105.41 Applicability.

This subpart prescribed rules governing parachute equipment used in civil parachute operations.

§ 105.43 Use of single-harness, dual-parachute systems.

No person may conduct a parachute operation using a single-harness, dual-parachute system, and no pilot in command of an aircraft may allow any person to conduct a parachute operation from that aircraft using a single-harness, dual-parachute system, unless that system has at least one main parachute, one approved reserve parachute, and one approved single person harness and container that are packed as follows:

(a) The main parachute must have been packed within 120 days before the date of its use of a certificated parachute rigger, the person making the next jump with that parachute, or a non-certificated person under the direct supervision of a certification parachute rigger.

(b) The reserve parachute must have been packed by a certificated parachute rigger—

(1) Within 120 days before the date of its use, if its canopy, shroud, and harness are composed exclusively of nylon, rayon, or similar synthetic fiber or material that is substantially resistant to damage from mold, mildew, and other fungi, and other rotting agents propagated in a moist environment; or

(2) Within 60 days before the date of its use, if it is composed of any amount of silk, pongee, or other natural fiber, or material not specified in paragraph (b)(1) of this section.

(c) If installed, the automatic activation device must be maintained in accordance with manufacturer instructions for that automatic activation device.

§ 105.45 Use of tandem parachute systems.

(a) No person may conduct a parachute operation using a tandem parachute system, and no pilot in command of an aircraft may allow any person to conduct a parachute operation from that aircraft using a tandem parachute system, unless—

(1) One of the parachutists using the tandem parachute system is the parachutist in command, and meets the following requirements:

(i) Has a minimum of 3 years of experience in parachuting, and must provide documentation that the parachutist—

(ii) Has completed a minimum of 500 freefall parachute jumps using a ram-air parachute, and

(iii) Holds a master parachute license issued by an organization recognized by the FAA, and

(iv) Has successfully completed a tandem instructor course given by the manufacturer of the tandem parachute system used in the parachute operation or a course acceptable to the Administrator.

(v) Has been certified by the appropriate parachute manufacturer or tandem course provider as being properly trained on the use of the specific tandem parachute system to be used.

(2) The person acting as parachutist in command:

(i) Has briefed the passenger parachutist before boarding the aircraft. The briefing must include the procedures to be used in case of an emergency with the aircraft or after exiting the aircraft, while preparing to exit and exiting the aircraft, freefall, operating the parachute after freefall, landing approach, and landing.

(ii) Uses the harness position prescribed by the manufacturer of the tandem parachute equipment.

(b) No person may make a parachute jump with a tandem parachute system unless—

(1) The main parachute has been packed by a certificated parachute rigger, the parachutist in command making the next jump with that parachute, or a person under the direct supervision of a certificated parachute rigger.

(2) The reserve parachute has been packed by a certificated parachute rigger in accordance with § 105.43(b) of this part.

(3) The tandem parachute system contains an operational automatic activation device for the reserve parachute, approved by the manufacturer of that tandem parachute system. The device must—

(i) Have been maintained in accordance with manufacturer instructions, and

(ii) Be armed during each tandem parachute operation.

(4) The passenger parachutist is provided with a manual main parachute activation device and instructed on the use of that device, if required by the owner/operator.

(5) The main parachute is equipped with a single-point release system.

(6) The reserve parachute meets Technical Standard Order C23 specifications.

§ 105.47 Use of static lines.

(a) Except as provided in paragraph (c) of this section, no person may conduct a parachute operation using a static line attached to the aircraft and the main parachute unless an assist device, described and attached as follows, is used to aid the pilot chute in performing its function, or, if no pilot chute is used, to aid in the direct deployment of the main parachute canopy. The assist device must—

(1) Be long enough to allow the main parachute container to open before a load is placed on the device.

(2) Have a static load strength of—

(i) At least 28 pounds but not more than 160 pounds if it is used to aid the pilot chute in performing its function; or

(ii) At least 56 pounds but not more than 320 pounds if it is used to aid in the direct deployment of the main parachute canopy; and

(3) Be attached as follows:

(i) At one end, to the static line above the static-line pins or, if static-line pins are not used, above the static-line ties to the parachute cone.

(ii) At the other end, to the pilot chute apex, bridle cord, or bridle loop, or, if no pilot chute is used, to the main parachute canopy.

(b) No person may attach an assist device required by paragraph (a) of this section to any main parachute unless that person is a certificated parachute rigger or that person makes the next parachute jump with that parachute.

(c) An assist device is not required for parachute operations using direct-deployed, ram-air parachutes.

§ 105.49 Foreign parachutists and equipment.

(a) No person may conduct a parachute operation, and no pilot in command of an aircraft may allow a parachute operation to be conducted from that aircraft with an unapproved foreign parachute system unless—

(1) The parachute system is worn by a foreign parachutist who is the owner of that system.

(2) The parachute system is of a single-harness dual parachute type.

(3) The parachute system meets the civil aviation authority requirements of the foreign parachutist's country.

(4) All foreign non-approved parachutes deployed by a foreign parachutist during a parachute operation conducted under this section shall be packed as follows—

(i) The main parachute must be packed by the foreign parachutist making the next parachute jump with that parachute, a certificated parachute rigger, or any other person acceptable to the Administrator.

(ii) The reserve parachute must be packed in accordance with the foreign parachutist's civil aviation authority requirements, by a certificated parachute rigger, or any other person acceptable to the Administrator.

PART 119—CERTIFICATION: AIR CARRIERS AND COMMERCIAL OPERATORS

7. The authority citation for part 119 continues to read as follows:

Authority: 49 U.S.C. 106(g), 1153, 40101, 40102, 40103, 44105, 44106, 44111, 44701-44717, 44722, 44901, 44903, 44904, 44906, 44912, 44914, 44936, 44938, 46103, 46105.

8. Section 119.1 is amended by revising paragraph (e)(6) to read as follows:

§ 119.1 Applicability.

* * * * *

(e) * * *

(6) Nonstop flights conducted within a 25-statute-mile radius of the airport of takeoff carrying persons or objects for the purpose of conducting intentional parachute operations.

Issued in Washington, DC on May 4, 2001.
Jane F. Garvey,
Administrator.

[FR Doc. 01-11726 Filed 5-8-01; 8:45 am]

BILLING CODE 4910-13-M